DEPARTMENT OF HOMELAND SECURITY

U.S. Customs and Border Protection

Notice of Availability of the Draft Programmatic Environmental Assessment for the Deployment and Operation of Low Energy X-Ray Inspection Systems at U.S. Customs and Border Protection Operational Areas

AGENCY: U.S. Customs and Border Protection, Department of Homeland Security.

ACTION: Notice of Availability and Request for Comments.

SUMMARY: U.S. Customs and Border Protection (CBP) is advising the public that a draft Programmatic Environmental Assessment (PEA) for Low Energy X-Ray Inspection Systems (LEXRIS) at CBP operational areas has been prepared and is available for public review. The draft PEA analyzes the potential environmental impacts due to the deployment and use of LEXRIS. CBP seeks public comment on the draft PEA. CBP will consider comments before issuing a final PEA.

DATES: The draft PEA will be available for public review and comment for a period of 30 days beginning on the date this document is published in the Federal Register. To ensure consideration, comments must be received by February 17, 2012. Comments regarding the draft PEA may be submitted as set forth in the ADDRESSES section of this document.

ADDRESSES: Copies of the draft PEA may be obtained by accessing the following Internet addresses: http://ecso.swf.usace.army.mil/Pages/Publicreview.cfm or www.dhs.gov/nepa, or by sending a request to David Duncan of CBP by telephone (202) 344-1527 by fax (202) 344-1418, by email to david.c.duncan@dhs.gov or by writing to: CBP, Attn: David Duncan, 1300 Pennsylvania Avenue NW., Suite 1575, Washington, DC 20229.

You may submit comments on the draft PEA by mail or email. Comments are to be addressed to CBP, Attention: David Duncan, 1300 Pennsylvania Avenue NW., Suite 1575, Washington, DC 20229, or sent to david.c.duncan@dhs.gov.

Substantive comments received during the comment period will be addressed in, and included as an appendix to, the final PEA. The final PEA will be made available to the public through a Notice of Availability in the Federal Register.

Respondents may request to withhold names or street addresses, except for city or town, from public view or from disclosure under the Freedom of Information Act. Such request must be stated prominently at the beginning of the comment and will be honored to the extent allowed by law. A request to withhold personal information does not apply to submissions from organizations or businesses, or from individuals identifying themselves as representatives or officials of organizations or businesses.

FOR FURTHER INFORMATION CONTACT: Antoinette DiVittorio, Environmental and Energy Division, U.S. Customs and Border Protection, telephone (202) 344-3131.

SUPPLEMENTARY INFORMATION:

Background

A draft Programmatic Environmental Assessment (PEA) for the deployment and operation of Low Energy X-Ray Inspection Systems (LEXRIS) at CBP operational areas has been completed by the U.S. Customs and Border Protection (CBP), Office of Information and Technology, Laboratories and Scientific Services, Interdiction Technology Branch. The draft PEA is available for public comment.

The purpose of deploying and operating LEXRIS is to non-intrusively scan vehicles for the presence of contraband, including weapons of mass destruction, explosives, and illicit drugs. Use of LEXRIS at U.S. ports of entry, for example, directly supports CBP's mission of securing the U.S. borders and homeland from terrorists and other threats while simultaneously facilitating legitimate trade and travel by assisting CBP personnel in preventing contraband, including illegal drugs and terrorist weapons, from entering the United States.

Two different LEXRIS models are available. One system is mobile, mounted on a truck or van type platform and will be used at CBP operational areas. The system can be driven along side a parked vehicle and will scan the vehicle as it drives by. The driver and passenger(s) will exit the vehicle to be scanned and be escorted outside the controlled area before the vehicle is scanned. The other system is a stationary, portal configuration that will be installed along an existing traffic lane. Vehicles will be scanned as they are driven through the portal. Occupants of the vehicle will have the option of remaining in the vehicle while the driver drives it through the portal or exiting the vehicle and having CBP personnel drive it through the portal. Examples of CBP operational areas include, but are not limited to, ports of entry, CBP checkpoints, and locations of events designated as national special security events.

LEXRIS is needed to fill a unique capability to detect objects that are not effectively visualized by other non-intrusive inspection technologies currently used by CBP. LEXRIS gives a clear image of objects in the vehicle, including objects that may be hidden in fenders, tires, trunks, gas tanks, and under hoods. LEXRIS provides CBP personnel with information about what may be encountered during a manual search and, in some cases, will eliminate the need for CBP personnel to manually enter vehicles to search for contraband. As a result, LEXRIS will increase the safety of CBP personnel.

The draft PEA addresses the potential impacts from the installation and operation of LEXRIS at various CBP operational areas throughout the United States for the purpose of conducting non-intrusive inspections. Evaluations were conducted on various resources present at operational areas, including: climate, soils, water quality, air quality, vegetation, wildlife, noise, infrastructure, aesthetics, and radiological health and safety.

Next Steps

This process is being conducted pursuant to the National Environmental Policy Act of 1969 (NEPA) (42 U.S.C. 4321 et seq.), the Council on Environmental Quality Regulations for Implementing the NEPA (40 CFR parts 1500-1508), and Department of Homeland Security Directive 023-01, Environmental Planning Program, (April 19, 2006).

Substantive comments concerning environmental impacts received from the public and agencies during the comment period will be evaluated to determine whether further environmental impact review is needed in order to complete the Final PEA. The Final PEA will be made available to the public through a Notice of Availability in the Federal Register.

Should CBP determine, after review of the comments, that the implementation of the proposed action would not have a significant impact on the environment, it will prepare a Finding of No Significant Impact (FONSI), and a Notice of Availability of the FONSI for publication in the Federal Register.

Should CBP determine that significant environmental impacts exist due to the action, CBP will prepare a Notice of Intent (NOI) to prepare an Environmental Impact Statement (EIS) for publication in the Federal Register.

Dated: January 12, 2012.
Karl H. Calvo,
Executive Director, Facilities Management and Engineering, Office of Administration.

[FR Doc. 2012-809 Filed 1-17-12; 8:45 am]

BILLING CODE 9111-14-P